DEPARTMENT OF TRANSPORTATION

Federal Aviation Administration

14 CFR Part 71

[Docket No. FAA-2008-0926; Airspace Docket No. 08-AAL-24]

RIN 2120-AA66

Proposed Establishment, Revision, and Removal of Area Navigation (RNAV) Routes; Alaska

AGENCY: Federal Aviation Administration (FAA), DOT.

ACTION: Notice of proposed rulemaking (NPRM).

SUMMARY: This action proposes to establish twenty three Area Navigation (RNAV) routes, and revise fourteen RNAV routes, in the State of Alaska. Additionally, this action proposes to remove four existing routes that are no longer required. Q & T-routes are Air Traffic Service (ATS) routes, based on RNAV, for use by aircraft having instrument flight rules (IFR)-approved Global Positioning System (GPS)/Global Navigation Satellite System (GNSS) equipment. The FAA is proposing this action to enhance safety and to improve the efficient use of the navigable airspace in Alaska.

DATES: Comments must be received on or before March 30, 2009.

ADDRESSES: Send comments on the proposal to the U.S. Department of Transportation, Dockets Operations, M-30, 1200 New Jersey Avenue, SE., West Building Ground Floor, Room W12-140, Washington, DC 20590-0001; telephone: (202) 366-9826. You must identify docket No. FAA-2008-0926 and Airspace Docket No. 08-AAL-24, at the beginning of your comments. You may also submit comments on the Internet at http://www.regulations.gov.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2008-0926 and Airspace Docket No. 08-AAL-24) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2008-0926 and Airspace Docket No. 08-AAL-24.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publicaitons/airspace_amendments/.

You may review the public docket containing the proposal, any comments received, and any final disposition in person in the Dockets Office (see ADDRESSES section for address and phone number) between 9 a.m. and 5 p.m., Monday through Friday, except Federal holidays. An informal docket may also be examined during normal business hours at the office of the Alaska Flight Service Operations, Federal Aviation Administration, 222 West 7th Avenue, Box 14, Anchorage, AK 99513-7587.

Persons interested in being placed on a mailing list for future NPRMs should contact the FAA's Office of Rulemaking, (202) 267-9677, to request a copy of Advisory Circular No. 11-2A, Notice of Proposed Rulemaking Distribution System, which describes the application procedure.

Background

The FAA is establishing RNAV routes focusing on developing and implementing improvements in navigation structure and operating methods to allow more flexible and efficient en route operations in the National Airspace System. RNAV routes provide greater freedom to properly equipped users and achieves the economic benefits of flying user-selected non-restrictive routings. RNAV routes will be identified by the letter prefix “Q” for routes flight level (FL) 180 and above, and “T” for routes below FL 180 followed by a number consisting of one to three digits. This specific effort focuses on developing and implementing improvements in navigation structure for more efficient en route operations in the Alaska airspace environment. To help accomplish this goal, the FAA asked for user feedback to help place routing in the most efficient manner. As a result, twelve of the charted thirty three Alaskan T routes are proposed to be revised. Nine new T routes are proposed to be established, along with fourteen new Q routes. Additionally, four T routes are proposed to be removed. Final rules for Area Navigation routes will contain a general route outline and no longer contain the individual coordinates for each navigational aid, waypoint or fix. The coordinates will be published in the National Flight Data Digest and subsequently in FAA Order 7350.8 Location Identifiers.

Related Rulemaking

On April 8, 2003, the FAA published the Designation of Class A, B, C, D, and E Airspace Areas; Air Traffic Service Routes, and Reporting Points rule in the Federal Register (68 FR 16943). This rule adopted certain amendments proposed in Notice No. 02-20, Area Navigation (RNAV) and Miscellaneous Amendments. The rule revised and adopted several definitions in FAA regulations, including Air Traffic Service Routes, to be in concert with International Civil Aviation Organization (ICAO) definitions; and reorganized the structure of FAA regulations concerning the designation of Class A, B, C, D, and E airspace areas; airways; routes; and reporting points. The purpose of the rule was to facilitate the establishment of RNAV routes in the NAS for use by aircraft with advanced navigation system capabilities.

The Proposal

The FAA is proposing an amendment to Title 14 Code of Federal Regulations (14 CFR) part 71 to establish fourteen high altitude Area Navigation (RNAV) routes, and nine low altitude RNAV routes, in the State of Alaska. Additionally, this action proposes to revise one high altitude route, fourteen low altitude routes, and remove four existing “T” routes that are no longer required. These routes are being proposed to enhance safety, and to facilitate the more flexible and efficient use of the navigable airspace for en route instrument flight rules (IFR) operations within the state of Alaska. This proposal will improve operator efficiency, access and safety, while incrementally reducing dependency on ground based navigation facilities. A graphical representation of this proposal is on the web (downloadable PDF file) at: http://www.faa.gov/about/office_org/headquarters_offices/ato/service_units/systemops/fs/alaskan/notices/RNAV_Routes/. These areas would be depicted on aeronautical charts for pilot reference. The coordinates for this airspace docket are based on North American Datum 83.

The High Altitude RNAV Routes are published in paragraph 2006, and the Low Altitude RNAV Routes are published in paragraph 6011 in FAA Order 7400.9S, Airspace Designations and Reporting Points, signed October 3, 2008, and effective October 31, 2008, which is incorporated by reference in 14 CFR 71.1. The airspace designations listed in this document would be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it proposes to create Class A and E airspace sufficient in size to contain aircraft using the described Federal Airways within the State of Alaska and represents the FAA's continuing effort to safely and efficiently use the navigable airspace.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is to be amended as follows:

Paragraph 2006 United States Area Navigation Routes.

* * * * *

Q-41 CAWIN to SCC [New]
CAWIN | Fix | (Lat. 63°16′51″ N., long. 148°59′18″ W.)
SCC | VOR/DME | (Lat. 70°11′57″ N., long. 148°24′58″ W.)
Q-43 ANC to FAI [New]
ANC | VOR/DME | (Lat. 61°09′03″ N., long. 150°12′24″ W.)
CAWIN | FIX | (Lat. 61°16′51″ N., long. 148°59′18″ W.)
FAI | VORTAC | (Lat. 64°48′00″ N., long. 148°00′43″ W.)
Q-44 OME to ANC [New]
OME | VOR/DME | (Lat. 64°29′06″ N., long. 165°15′11″ W.)
ANC | VOR/DME | (Lat. 61°09′03″ N., long. 150°12′24″ W.)
Q-45 DLG to AMOTT [New]
DLG | VOR/DME | (Lat. 58°59′39″ N., long. 158°33′08″ W.)
AMOTT | FIX | (Lat. 60°53′56″ N., long. 151°21′46″ W.)
Q-46 PHO to BRW [New]
PHO | NDB | (Lat. 68°20′41″ N., long. 166°47′51″ W.)
BRW | VOR/DME | (Lat. 71°16′24″ N., long. 156°47′17″ W.)
Q-47 AKN to AMOTT [New]
AKN | VORTAC | (Lat. 58°43′29″ N., long. 156°45′08″ W.)
AMOTT | FIX | (Lat. 60°53′56″ N., long. 151°21′46″ W.)
Q-48 BRW to ROCES [New]
BRW | VOR/DME | (Lat. 71°16′24″ N., long. 156°47′17″ W.)
SCC | VOR/DME | (Lat. 70°11′57″ N., long. 148°24′58″ W.)
ROCES | WP | (Lat. 70°08′34″ N., long. 144°08′16″ W.)
Q-49 ODK to AMOTT [New]
ODK | VOR/DME | (Lat. 57°46′30″ N., long. 152°20′23″ W.)
AMOTT | FIX | (Lat. 60°53′56″ N., long. 151°21′46″ W.)
Q-51 AKN to OTZ [New]
AKN | VORTAC | (Lat. 58°43′29″ N., long. 156°45′08″ W.)
OTZ | VOR/DME | (Lat. 66°53′09″ N., long. 162°32′24″ W.)
Q-53 ODK to OTZ [New]
ODK | VOR/DME | (Lat. 57°46′30″ N., long. 152°20′23″ W.)
ILI | NDB/DME | (Lat. 59°44′53″ N., long. 154°54′35″ W.)
OTZ | VOR/DME | (Lat. 66°53′09″ N., long. 162°32′24″ W.)
Q-55 ODK to OME [New]
ODK | VOR/DME | (Lat. 57°46′30″ N., long. 152°20′23″ W.)
OME | VOR/DME | (Lat. 64°29′06″ N., long. 165°15′11″ W.)
Q-57 AKN to MCG [New]
AKN | VORTAC | (Lat. 58°43′29″ N., long. 156°45′08″ W.)
MCG | VORTAC | (Lat. 62°57′04″ N., long. 155°36′41″ W.)
Q-59 CDB to BET [New]
CDB | VORTAC | (Lat. 55°16′03″ N., long. 162°46′27″ W.)
BET | VORTAC | (Lat. 60°47′05″ N., long. 161°49′28″ W.)
Q-61 FAI to BRW [New]
FAI | VORTAC | (Lat. 64°48′00″ N., long. 148°00′43″ W.)
BRW | VOR/DME | (Lat. 71°16′24″ N., long. 156°47′17″ W.)
* * * * * * *
Q-16 ODK to YAK [Revised]
ODK | VOR/DME | (Lat. 57°46′30″ N., long. 152° 20′23″ W.)
MDO | VOR/DME | (Lat. 59°25′19″ N., long. 146° 21′00″ W.)
YAK | VOR/DME | (Lat. 59°30′39″ N., long. 139° 38′53″ W.)
* * * * * * *

Paragraph 6011 United States Area Navigation Routes.

* * * * * * *
T-269 BET to ANN [New]
BET | VORTAC | (Lat. 60°47′05″ N., long. 161°49′28″ W.)
SQA | VOR/DME | (Lat. 61°05′55″ N., long. 155°38′04″ W.)
ANC | VOR/DME | (Lat. 61°09′03″ N., long. 150°12′24″ W.)
JOH | VOR/DME | (Lat. 60°28′51″ N., long. 146°35′58″ W.)
YAK | VOR/DME | (Lat. 59°30′39″ N., long. 139°38′53″ W.)
BKA | VORTAC | (Lat. 56°51′34″ N., long. 135°33′05″ W.)
ANN | VOR/DME | (Lat. 55°03′37″ N., long. 131°34′42″ W.)
* * * * * * *
T-271 CDB to AMOTT [New]
CDB | VORTAC | (Lat. 55°16′03″ N., long. 162°46′27″ W.)
BINAL | FIX | (Lat. 55°46′00″ N., long. 161°59′56″ W.)
AKN | VORTAC | (Lat. 58°43′29″ N., long. 156°45′08″ W.)
AMOTT | FIX | (Lat. 60°53′56″ N., long. 151°21′46″ W.)
* * * * * * *
T-273 FAI to ROCES [New]
FAI | VORTAC | (Lat. 64°48′00″ N., long. 148°00′43″ W.)
ROCES | WP | (Lat. 70°08′34″ N., long. 144°08′16″ W.)
* * * * * * *
T-275 BET to UNK [New]
BET | VORTAC | (Lat. 60°47′05″ N., long. 161°49′28″ W.)
UNK | VOR/DME | (Lat. 63°53′31″ N., long. 160°41′04″ W.)
* * * * * * *
T-277 BTT to PIZ [New]
BTT | VOR/DME | (Lat. 66°54′18″ N., long. 151°32′09″ W.)
PIZ | NDB | (Lat. 69°44′04″ N., long. 163°44′49″ W.)
* * * * * * *
T-278 HAPIT to SSR [New]
HAPIT | FIX | (Lat. 58°11′58″ N., long. 137°31′12″ W.)
SSR | VORTAC | (Lat. 58°10′40″ N., long. 135°15′32″ W.)
* * * * * * *
T-279 ALEUT to BET [New]
ALEUT | FIX | (Lat. 54°14′17″ N., long. 166°32′52″ W.)
BET | VORTAC | (Lat. 60°47′05″ N., long. 161°49′28″ W.)
* * * * * * *
T-280 FLIPS to LVD [New]
FLIPS | FIX | (Lat. 56°34′33″ N., long. 134°52′47″ W.)
LVD | VOR/DME | (Lat. 56°28′04″ N., long. 133°04′59″ W.)
* * * * * * *
T-282 VENCE to FAI [New]
VENCE | FIX | (Lat. 64°29′23″ N., long. 158°00′06″ W.)
HORSI | FIX | (Lat. 64°44′05″ N., long. 154°19′15″ W.)
ROSII | FIX | (Lat. 64°57′46″ N., long. 153°14′37″ W.)
PERZO | WP | (Lat. 64°40′23″ N., long. 148°07′20″ W.)
FAI | VORTAC | (Lat. 64°48′00″ N., long. 148°00′43″ W.)
* * * * * * *
T-219 DLG to AIX [Revised]
DLG | VOR/DME | (Lat. 58°59′39″ N., long. 158°33′08″ W.)
RUFVY | WP | (Lat. 59°56′34″ N., long. 161°49′28″ W.)
AIX | NDB/DME | (Lat. 60°23′06″ N., long. 166°12′53″ W.)
* * * * * * *
T-222 BAERE TO FAI [Revised]
BAERE | WP | (Lat. 52°12′12″ N., long. 176°08′09″ W.)
SPY | NDB/DME | (Lat. 57°09′28″ N., long. 170°13′51″ W.)
RUFVY | WP | (Lat. 59°56′34″ N., long. 161°49′28″ W.)
BET | VORTAC | (Lat. 60°47′05″ N., long. 161°49′28″ W.)
MCG | VORTAC | (Lat. 62°57′04″ N., long. 155°36′41″ W.)
ENN | VORTAC | (Lat. 64°35′24″ N., long. 149°04′22″ W.)
FAI | VORTAC | (Lat. 64°48′00″ N., long. 148°00′43″ W.)
* * * * * * *
T-223 EHM to AMOTT [Revised]
EHM | NDB/DME | (Lat. 58°39′24″ N., long. 162°04′17″ W.)
DLG | VOR/DME | (Lat. 58°59′39″ N., long. 158°33′08″ W.)
FAGIN | FIX | (Lat. 59°51′56″ N., long. 155°32′43″ W.)
NONDA | FIX | (Lat. 60°19′16″ N., long. 153°47′58″ W.)
BLUGA | FIX | (Lat. 60°46′22″ N., long. 151°55′07″ W.)
AMOTT | FIX | (Lat. 60°53′56″ N., long. 151°21′46″ W.)
* * * * * * *
T-227 SYA to SCC [Revised]
SYA | VORTAC | (Lat. 52°43′06″ N., long. 174°03′44″ E.)
JANNT | WP | (Lat. 52°04′18″ N., long. 178°15′37″ W.)
BAERE | WP | (Lat. 52°12′12″ N., long. 176°08′09″ W.)
ALEUT | FIX | (Lat. 54°14′17″ N., long. 166°32′52″ W.)
MORDI | FIX | (Lat. 54°52′50″ N., long. 165°03′15″ W.)
GENFU | FIX | (Lat. 55°23′18″ N., long. 163°06′22″ W.)
BINAL | FIX | (Lat. 55°46′00″ N., long. 161°59′56″ W.)
PDN | NDB/DM | (Lat. 56°57′15″ N., long. 158°38′51″ W.)
AMOTT | FIX | (Lat. 60°53′56″ N., long. 151°21′46″ W.)
ANC | VOR/DME | (Lat. 61°09′03″ N., long. 150°12′24″ W.)
FAI | VORTAC | (Lat. 64°48′00″ N., long. 148°00′43″ W.)
SCC | VOR/DME | (Lat. 70°11′57″ N., long. 148°24′58″ W.)
* * * * * * *
T-228 EHM to ROCES [Revised]
EHM | NDB/DME | (Lat. 58°39′24″ N., long. 162°04′17″ W.)
RUFVY | WP | (Lat. 59°56′34″ N., long. 161°49′28″ W.)
HPB | VOR/DME | (Lat. 61°30′52″ N., long. 166°08′04″ W.)
OME | VOR/DME | (Lat. 64°29′06″ N., long. 165°15′11″ W.)
HIKAX | WP | (Lat. 65°36′20″ N., long. 165°44′44″ W.)
SHH | NDB | (Lat. 66°15′29″ N., long. 166°03′09″ W.)
ECIPI | FIX | (Lat. 67°55′48″ N., long. 165°29′58″ W.)
BRW | VOR/DME | (Lat. 71°16′24″ N., long. 156°47′17″ W.)
SCC | VOR/DME | (Lat. 70°11′57″ N., long. 148°24′58″ W.)
ROCES | WP | (Lat. 70°08′34″ N., long. 144°08′16″ W.)
* * * * * * *
T-231 FAI to OTZ [Revised]
FAI | VORTAC | (Lat. 64°48′00″ N., long. 148°00′43″ W.)
OTZ | VOR/DME | (Lat. 66°53′09″ N., long. 162°32′24″ W.)
* * * * * * *
T-232 BRW to ORT [Revised]
BRW | VOR/DME | (Lat. 71°16′24″ N., long. 156°47′17″ W.)
BRONX | FIX | (Lat. 70°04′02″ N., long. 155°06′35″ W.)
BTT | VOR/DME | (Lat. 66°54′18″ N., long. 151°32′09″ W.)
FAI | VORTAC | (Lat. 64°48′00″ N., long. 148°00′43″ W.)
BIG | VORTAC | (Lat. 64°00′16″ N., long. 145°43′02″ W.)
ORT | VORTAC | (Lat. 62°56′50″ N., long. 141°54′46″ W.)
* * * * * * *
T-240 BTT to SCC [Revised]
BTT | VOR/DME | (Lat. 66°54′18″ N., long. 151°32′09″ W.)
NAMRE | WP | (Lat. 69°06′29″ N., long. 149°34′00″ W.)
SCC | VOR/DME | (Lat. 70°11′57″ N., long. 148°24′58″ W.)
* * * * * * *
T-246 BRW to ANC [Revised]
BRW | VOR/DME | (Lat. 71°16′24″ N., long. 156°47′17″ W.)
GAL | VORTAC | (Lat. 64°44′17″ N., long. 156°46′38″ W.)
MCG | VORTAC | (Lat. 62°57′04″ N., long. 155°36′41″ W.)
ANC | VOR/DME | (Lat. 61°09′03″ N., long. 150°12′24″ W.)
* * * * * * *
T-248 GAM to ENM [Revised]
GAM | NDB/DME | (Lat. 63°46′55″ N., long. 171°44′12″ W.)
QAYAQ | WP | (Lat. 63°52′14″ N., long. 169°59′42″ W.)
ENM | VOR/DME | (Lat. 62°47′05″ N., long. 164°29′15″ W.)
* * * * * * *
T-250 ULL to BET [Revised]
ULL | VOR/DME | (Lat. 63°41′32″ N., long. 170°28′12″ W.)
QAYAQ | WP | (Lat. 63°52′14″ N., long. 169°59′42″ W.)
BANAT | WP | (Lat. 62°12′49″ N., long. 165°40′01″ W.)
BET | VORTAC | (Lat. 60°47′05″ N., long. 161°49′28″ W.)
* * * * * * *
T-252 OME to SCC [Revised]
OME | VOR/DME | (Lat. 64°29′06″ N., long. 165°15′11″ W.)
OTZ | VOR/DME | (Lat. 66°53′09″ N., long. 162°32′24″ W.)
SCC | VOR/DME | (Lat. 70°11′57″ N., long. 148°24′58″ W.)
* * * * * * *
T-260 PHO to OME [Revised]
PHO | NDB | (Lat. 68°20′41″ N., long. 166°47′51″ W.)
COGNU | WP | (Lat. 65°48′29″ N., long. 167°50′06″ W.)
TNC | NDB/DME | (Lat. 65°33′43″ N., long. 167°55′27″ W.)
OME | VOR/DME | (Lat. 64°29′07″ N., long. 165°15′11″ W.)
* * * * * * *
T-239 GAM to ULL [Remove]
* * * * * * *
T-256 GAL to BRW [Remove]
* * * * * * *
T-258 SHH to PHO [Remove]
* * * * * * *
T-268 FPN to ICK [Remove]
* * * * * * *

Issued in Washington, DC, on January 14, 2009.
Edith V. Parish,
Manager, Airspace and Rules Group.

[FR Doc. E9-2976 Filed 2-11-09; 8:45 am]

BILLING CODE 4910-13-P